DEPARTMENT OF DEFENSE

Department of the Navy

[Docket ID: USN-2023-HQ-0011]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by October 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Fleet Readiness Center Southeast (FRCSE) Electronic Sensormatic Intake Application; OMB Control Number 0703-CURE.

Type of Request: Existing collection in use without an OMB Control Number.

Number of Respondents: 1,600.

Responses per Respondent: 1.

Annual Responses: 1,600.

Average Burden per Response: 7 minutes.

Annual Burden Hours: 187.

Needs and Uses: The Sensormatic Electronic (SE) Computer Coordinated Universal Retrieval Entry (CCURE) 9000 application is used as part of the process for issuing access badges to Fleet Readiness Center Southeast (FRCSE) command facilities. The information collected from command employees for this application is per the prescribing policy regulations in OPNAVINST 5530.14E, “Navy Physical Security and Law Enforcement Program,” which provides guidance for the protection of people and assets throughout the Navy. FRCSE Security collects information from contractor personnel verbally and in-person to obtain the necessary information required to in the CCURE application for command badge issuance. Once FRCSE security personnel enters all necessary information into the SE CCURE 9000 application, a command badge is issued, allowing the contractor employee access to command facilities. In addition to using information to process personnel access to controlled areas, information may be used for investigative purposes and communications in the event of an emergency or security event.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 5, 2023.
Aaron T. Siegel,
Alternate OSD Federal Register Liaison Officer, Department of Defense.

[FR Doc. 2023-19763 Filed 9-12-23; 8:45 am]

BILLING CODE 5001-06-P